DEPARTMENT OF AGRICULTURE

Food and Nutrition Service

7 CFR Part 273

[FNS-2011-0008]

RIN 0584-AD87

Supplemental Nutrition Assistance Program (SNAP): Eligibility, Certification, and Employment and Training Provisions of the Food, Conservation and Energy Act of 2008; Correction

AGENCY: Food and Nutrition Service (FNS), USDA.

ACTION: Correcting amendment.

SUMMARY: This document contains technical corrections to the Code of Federal Regulations regarding the final rule and interim final rule published in the Federal Register on January 6, 2017, “Supplemental Nutrition Assistance Program (SNAP): Eligibility, Certification, and Employment and Training Provisions of the Food, Conservation and Energy Act of 2008.”

DATES: This document is effective March 30, 2018. Compliance with this final rule began on March 7, 2017, except as noted in specific regulatory provisions.

FOR FURTHER INFORMATION CONTACT: Sasha Gersten-Paal, Branch Chief, Certification Policy Branch, Program Development Division, Food and Nutrition Service (FNS), 3101 Park Center Drive, Room 810, Alexandria, Virginia, 703-305-2507, sasha.gersten-paal@fns.usda.gov.

SUPPLEMENTARY INFORMATION: The Food and Nutrition Service published a final rule and interim final rule on January 6, 2017, (82 FR 2010), which implements provisions of the Food, Conservation and Energy Act of 2008 (FCEA) affecting the eligibility, benefits, certification, and employment and training (E&T) requirements for applicant or participant households in the Supplemental Nutrition Assistance Program (SNAP). Certain existing provisions were inadvertently removed from 7 CFR 273.2(b)(1). This document makes the technical correction to reinsert the provisions.

List of Subjects in 7 CFR Part 273

Administrative practice and procedure, Aliens, Claims, Employment, Food stamps, Fraud, Government employees, Grant programs—social programs, Income taxes, Reporting and recordkeeping requirements, Students, Supplemental Security Income, Wages.

Accordingly, 7 CFR part 273 is corrected by making the following correcting amendments:

PART 273—CERTIFICATION OF ELIGIBLE HOUSEHOLDS

1. The authority citation for part 273 continues to read as follows:

Authority: 7 U.S.C. 2011-2036.

2. Amend § 273.2 by adding paragraphs (b)(1)(i) through (ix) to read as follows:

§ 273.2 Office operations and application processing.

* * * * *

(b) * * *

(1) * * *

(i) In prominent and boldface lettering and understandable terms a statement that the information provided by the applicant in connection with the application for SNAP benefits will be subject to verification by Federal, State and local officials to determine if such information is factual; that if any information is incorrect, SNAP benefits may be denied to the applicant; and that the applicant may be subject to criminal prosecution for knowingly providing incorrect information;

(ii) In prominent and boldface lettering and understandable terms a description of the civil and criminal provisions and penalties for violations of the Food and Nutrition Act of 2008;

(iii) A statement to be signed by one adult household member which certifies, under penalty of perjury, the truth of the information contained in the application, including the information concerning citizenship and alien status of the members applying for benefits;

(iv) A place on the front page of the application where the applicant can write his/her name, address, and signature.

(v) In plain and prominent language on or near the front page of the application, notification of the household's right to immediately file the application as long as it contains the applicant's name and address and the signature of a responsible household member or the household's authorized representative. Regardless of the type of system the State agency uses (paper or electronic), it must provide a means for households to immediately begin the application process with name, address and signature;

(vi) In plain and prominent language on or near the front page of the application, a description of the expedited service provisions described in paragraph (i) of this section;

(vii) In plain and prominent language on or near the front page of the application, notification that benefits are provided from the date of application; and

(viii) The following nondiscrimination statement on the application itself even if the State agency uses a joint application form: “In accordance with Federal law and U.S. Department of Agriculture policy, this institution is prohibited from discriminating on the basis of race, color, national origin, sex, age, religion, political beliefs, or disability. “To file a complaint of discrimination, write USDA, Director, Office of Civil Rights, Room 326-W, Whitten Building, 1400 Independence Avenue SW, Washington, DC 20250-9410 or call (202) 720-5964 (voice and TDD). USDA is an equal opportunity provider and employer.”; and

(ix) For multi-program applications, contain language which clearly affords applicants the option of answering only those questions relevant to the program or programs for which they are applying.

* * * * *

Dated: March 8, 2018.
Brandon Lipps,
Administrator, Food and Nutrition Service.

[FR Doc. 2018-06520 Filed 3-29-18; 8:45 am]

BILLING CODE 3410-30-P